DEPARTMENT OF LABOR

Employment and Training Administration

Investigations Regarding Certifications of Eligibility To Apply for Worker Adjustment Assistance and Alternative Trade Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 20, 2007.

Interested persons are invited to submit written comments regarding the subject matter of the investigations to the Director, Division of Trade Adjustment Assistance, at the address shown below, not later than August 20, 2007.

The petitions filed in this case are available for inspection at the Office of the Director, Division of Trade Adjustment Assistance, Employment and Training Administration, U.S. Department of Labor, Room C-5311, 200 Constitution Avenue, NW., Washington, DC 20210.

Signed at Washington, DC, this 31st day of July 2007.
Ralph DiBattista,
Director, Division of Trade Adjustment Assistance.

APPENDIX
[TAA petitions instituted between 7/23/07 and 7/27/07]
TA-W | Subject firm (petitioners) | Location | Date of institution | Date of petition
61853 | Everbrite (State) | Garden Grove, CA | 07/23/07 | 07/12/07
61854 | Gampco (Wkrs) | North Adams, MI | 07/23/07 | 07/20/07
61855 | Chadron Shop Colorado Custom Hardware (Wkrs) | Chadron, NE | 07/23/07 | 07/17/07
61856 | Kilpsch Audio Technologies (Wkrs) | Hope, AR | 07/23/07 | 07/23/07
61857 | Hypertronics Corporation (Comp) | Hudson, MA | 07/23/07 | 07/19/07
61858 | Spectralink Corp/Polycom Inc. (State) | Boulder, CO | 07/23/07 | 07/19/07
61859 | Dura Automotive Systems, Inc. (Comp) | Brownstown, IN | 07/23/07 | 07/22/07
61860 | Laser Die & Engineering (Comp) | Kentwood, MI | 07/23/07 | 07/20/07
61861 | De-Sta-Co (CPL Products, Inc.) (State) | Charlevoix, MI | 07/23/07 | 07/20/07
61862 | OEM/Erie, Inc. (Comp) | Erie, PA | 07/23/07 | 07/20/07
61863 | GE Ravenna Lamp Plant (Wkrs) | Ravenna, OH | 07/24/07 | 07/10/07
61864A | Syroco, Inc. (Comp) | Corona, CA | 07/24/07 | 07/23/07
61864B | Syroco, Inc. (Comp) | Lake Wales, FL | 07/24/07 | 07/23/07
61864 | Syroco, Inc. (Comp) | Baldwinsville, NY | 07/24/07 | 07/23/07
61865 | Overland Custom Coach US, Inc. (Comp) | Brown City, MI | 07/24/07 | 07/16/07
61866 | STMicroelectronics (Comp) | Carrollton, TX | 07/24/07 | 07/23/07
61867 | Non-Metallic Components, Inc. (Wkrs) | Rib Lake, WI | 07/24/07 | 07/18/07
61868 | Mittal Steel (UAW) | Ferndale, MI | 07/24/07 | 07/23/07
61869 | San Jose Mercury News (Comp) | San Jose, CA | 07/24/07 | 07/20/07
61870 | Goodrich/Landing Gears (Wkrs) | Cleveland, OH | 07/24/07 | 07/23/07
61871 | Dirigo Paper Company (Comp) | Gilman, VT | 07/24/07 | 07/23/07
61872 | Memphis Hardwood Flooring Company (State) | Grenada, MS | 07/24/07 | 07/12/07
61873 | Sasol North America Inc. (Comp) | Baltimore, MD | 07/24/07 | 07/18/07
61874 | Automotive Resources Inc. (Wkrs) | Philadelphia, PA | 07/24/07 | 07/09/07
61875 | Willowbrook Hosiery Co., LLC (Wkrs) | Burlington, NC | 07/25/07 | 07/23/07
61876 | Neenah Paper FR, LLC (Comp) | Urbana, OH | 07/25/07 | 07/24/07
61877 | Family Entertainment (Wkrs) | Conyers, GA | 07/25/07 | 07/24/07
61878 | Meadwestvaco Consumer & Office Products Group (Union) | Garden Grove, CA | 07/25/07 | 07/24/07
61879 | RemyReman LLC (Comp) | Taylorsville, MS | 07/25/07 | 07/20/07
61880 | Little Me Children's Wear LLC (Wkrs) | Cumberland, MD | 07/25/07 | 07/24/07
61881 | Southern Weaving Company (Wkrs) | Tarboro, NC | 07/25/07 | 07/18/07
61882 | Magnetics Division of Spang & Co. (Comp) | Pittsburgh, PA | 07/25/07 | 07/11/07
61883 | Pottery Collaborative (State) | Haverhill, MA | 07/25/07 | 07/10/07
61884 | Crystal Lite Manufacturing Company (Wkrs) | Tualatin, OR | 07/25/07 | 07/05/07
61885 | Littelfuse, Inc. (Comp) | Des Plaines, IL | 07/25/07 | 07/20/07
61886 | O'Sullivan Industries, Inc. (Comp) | Lamar, MO | 07/26/07 | 07/24/07
61887 | AZ Automotive/Saturn (Comp) | Roseville, MI | 07/26/07 | 07/24/07
61888 | J. M. Huber Corporation (Wkrs) | Macon, GA | 07/26/07 | 07/18/07
61889 | Flint Group (Wkrs) | Holland, MI | 07/26/07 | 07/02/07
61890 | Pioneer/Seaboard Paper Company (Wkrs) | Carlstadt, NJ | 07/26/07 | 07/11/07
61891 | Duerr Tool & Die Company, Inc. (Wkrs) | North Union, NJ | 07/27/07 | 07/14/07
61892 | Centrilift (Wkrs) | Claremore, OK | 07/27/07 | 06/28/07

[FR Doc. E7-15534 Filed 8-8-07; 8:45 am]

BILLING CODE 4510-FN-P